DEPARTMENT OF ENERGY

Federal Energy Regulatory Commission

[Docket No. EC03-97-000, et al.]

Virginia Electric and Power Company, et al., Electric Rate and Corporate Filings

June 19, 2003.

The following filings have been made with the Commission. The filings are listed in ascending order within each docket classification.

1. Virginia Electric and Power Company and Dominion Energy Marketing, Inc.

[Docket No. EC03-97-000

Take notice that on June 13, 2003, Virginia Electric and Power Company (Dominion Virginia Power) and Dominion Energy Marketing, Inc. (DEMI) filed an application for an order authorizing the proposed transfer of certain of Dominion Virginia Power wholesale power sales agreements to its affiliate, DEMI.

Comment Date: July 7, 2003.

2. FPL Energy North Dakota Wind II, LLC

[Docket No. EG03-74-000]

Take notice that on June 16, 2003, FPL Energy North Dakota Wind II, LLC (the Applicant), filed with the Federal Energy Regulatory Commission (the Commission) an application for determination of exempt wholesale generator status pursuant to part 365 of the Commission's regulations.

The Applicant states that it is a Delaware limited liability company engaged directly and exclusively in the business of owning and operating an approximately 21 MW wind-powered generation facility located in La Moure County, North Dakota. Electric energy produced by the facility will be sold at wholesale.

Comment Date: July 10, 2003.

3. FPL Energy Wyoming, LLC

[Docket No. EG03-75-000]

Take notice that on June 16, 2003, FPL Energy Wyoming, LLC (the Applicant), filed with the Federal Energy Regulatory Commission (the Commission) an application for determination of exempt wholesale generator status pursuant to part 365 of the Commission's regulations.

The Applicant states that it is a Delaware limited liability company engaged directly and exclusively in the business of owning and operating an approximately 144 MW wind-powered generation facility located in Uinta County, Wyoming. Electric energy produced by the facility will be sold at wholesale.

Comment Date: July 10, 2003.

4. Duke Energy Hanging Rock, LLC

[Docket No. EG03-76-000]

Take notice that on June 16, 2003, Duke Energy Hanging Rock, LLC (Duke Hanging Rock), filed with the Federal Energy Regulatory Commission (Commission), an application for redetermination of exempt wholesale generator (EWG) status pursuant to section 32 of the Public Utility Holding Company Act of 1935, as amended, and part 365 of the Commission's regulations.

Duke Hanging Rock states that it is a Delaware limited liability company that will be engaged directly and exclusively in the business of owning or owning and operating eligible facilities to be located in Lawrence County, Ohio. Duke Hanging Rock states that the eligible facilities will consist of an approximately 1,240 MW natural gas-fired, combined cycle electric generation plant and related facilities. Duke Hanging Rock also states that the electric output of the eligible facilities will be sold at wholesale.

Comment Date: July 9, 2003.

5. Duke Energy Washington, LLC

[Docket No. EG03-77-000]

Take notice that on June 16, 2003, Duke Energy Washington, LLC (Duke Washington), filed with the Federal Energy Regulatory Commission (Commission) an application for redetermination of exempt wholesale generator (EWG) status pursuant to section 32 of the Public Utility Holding Company Act of 1935, as amended, and part 365 of the Commission's regulations.

Duke Washington states that it is a Delaware limited liability company that will be engaged directly and exclusively in the business of owning or owning and operating eligible facilities to be located in Washington County, Ohio. Duke Washington states that the eligible facilities consist of an approximately 620 MW natural gas-fired, combined cycle electric generation plant and related facilities. Duke Washington also states that the electric output of the eligible facilities will be sold at wholesale.

Comment Date: July 9, 2003.

6. American Ref-Fuel Company, Covanta Energy Group, Montenay Power Corporation, and Wheelabrator Technologies Inc.

[Docket No. EL03-133-000]

Take notice that on June 13, 2003, American Ref-Fuel Company, Covanta Energy Group, Montenay Power Corporation, and Wheelabrator Technologies Inc. filed with the Federal Energy Regulatory Commission (Commission) a Petition for Declaratory Order and Request for Expedited Consideration pursuant to rule 207 of the Commission's rules of practice and procedure, 18 CFR 385.207. The petition concerns the interpretation of the Commission's avoided cost regulations implementing the Public Utility Regulatory Policies Act of 1978 (PURPA).

Comment Date: July 7, 2003.

7. Maine Public Service Company

[Docket No. ER00-1053-009]

Take notice that on June 16, 2003, Maine Public Service Company (MPS) pursuant to section 2.4 of the Settlement Agreement filed on June 30, 2000, in Docket No. ER00-1053-000, and accepted by the Federal Energy Regulatory Commission on September 15, 2000, submits this informational filing setting forth the changed open access transmission tariff changes effective June 1, 2003, and back-up materials.

MPS states that copies of this filing were served on the parties to the Settlement Agreement, the Commission Trial Staff, the Maine Public Utilities Commission, the Maine Public Advocate, and current MPS open access transmission tariff customers.

Comment Date: July 7, 2003.

8. PJM Interconnection, L.L.C.

[Docket No.ER02-597-002]

Take notice that on June 17, 2003, PJM Interconnection, L.L.C. (PJM) submitted a revised refund report, supplementing the refund report filed in this proceeding on August 22, 2002, to reflect additional refunds that were provided to customers in the PPL Electric zone in December 2002.

PJM states that copies of this filing have been served on all parties listed on the official service list compiled by the Secretary in this proceeding.

Comment Date: July 8, 2003.

9. New York Independent System Operator, Inc.

[Docket No. ER03-200-003]

Take notice that on June 13, 2003, the New York Independent System Operator, Inc. (NYISO) submitted a compliance filing in connection with the Commission's January 21, 2003, order in Docket No. ER03-200-000.

The NYISO states that it has served a copy of this filing to all parties listed on the official service list. The NYISO also states that it has served a copy of this filing to all parties that have executed Service Agreements under the NYISO's Open-Access Transmission Tariff or Services Tariff, the New York State Public Service Commission and to the electric utility regulatory agencies in New Jersey and Pennsylvania.

Comment Date: July 7, 2003.

10. Automated Power Exchange, Inc.

[Docket No. ER03-559-002]

Take notice that on June 13, 2003, Automated Power Exchange, Inc. filed information in compliance with the Commission's May 6, 2003, Letter Order in Docket No. ER03-559-000.

Comment Date: July 7, 2003.

11. ISO New England Inc.

[Docket No. ER03-894-001]

Take notice that on June 16, 2003, the New England Power Pool (NEPOOL) Participants Committee jointly with ISO New England Inc. (the ISO) filed information supplementing their May 29, 2003, joint filing of the Hydro-Quebec Interconnection Capability Credit (HQICC) values established by the Participants Committee pursuant to the Restated NEPOOL Agreement for the 2003/2004 NEPOOL Power Year. A June 1, 2003, effective date was requested for implementation of these HQICC values.

NEPOOL and the ISO state that copies of the filing have been sent to NEPOOL Participants, Non-Participant Transmission Customers and the New England state governors and regulatory commissions.

Comment Date: July 7, 2003.

12. Carolina Power & Light Company, Florida Power Corporation

[Docket No. ER03-962-000]

Take notice that on June 17, 2003, Carolina Power & Light Company and Florida Power Corporation, (together, the Companies) tendered for filing with the Federal Energy Regulatory Commission modifications to their Open Access Transmission Tariffs (OATT). The Companies state that the modifications add provisions for suspension of service to non-creditworthy customers that do not meet enhanced credit security requirements and clarify the billing determinants for ancillary services in Schedules 1-6. The Companies respectfully request that the OATT modifications become effective on August 17, 2003.

The Companies also state that copies of the filing were served upon the public utility's jurisdictional customers, the North Carolina Utilities Commission and the Florida Public Service Commission.

Comment Date: July 8, 2003.

13. CERITAS Energy, LLC

[Docket No. ER03-963-000]

Take notice that on June 17, 2003, CERITAS Energy, LLC (CERITAS) petitioned the Commission for acceptance of Rate Schedule FERC No. 1, the granting of certain blanket approvals, including the authority to sell electricity at market-based rates, and the waiver of certain Commission regulations.

CERITAS states that it intends to engage in wholesale electric power and energy purchases and sales as a marketer. CERITAS also states that it are not in the business of generating and transmitting electric power. CERITAS states it is a wholly-owned subsidiary of The CERITAS Group, LLC, which, through its affiliates provides energy and consulting services.

Comment Date: July 8, 2003.

14. Midwest Independent Transmission System Operator, Inc.

[Docket Nos. RT01-87-008, ER02-106-002, and ER02-108-010]

Take notice that on June 13, 2003, the Midwest Independent Transmission System Operator, Inc. (Midwest ISO) filed proposed revisions to section VI of Appendix B (Planning Framework) of the Agreement of the Transmission Facilities Owners to Organize the Midwest Independent Transmission System Operator, Inc., FERC Electric Tariff, First Revised Rate Schedule No. 1, pursuant to the May 14, 2003, order on rehearing and compliance filing in Midwest Independent Transmission System Operator Inc., 103 FERC ¶ 61,169 (2003).

The Midwest ISO has requested waiver of the requirements set forth in 18 CFR 385.2010.

The Midwest ISO states that it has electronically served a copy of this filing, with attachments, upon all Midwest ISO Members, Member representatives of Transmission Owners and Non-Transmission Owners, the Midwest ISO Advisory Committee participants, Policy Subcommittee participants, as well as all State commissions within the region. In addition, Midwest ISO states that the filing has been electronically posted on the Midwest ISO's Web site at www.midwestiso.org under the heading “Filings to FERC” for other interested parties in this matter.

Comment Date: July 7, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-16276 Filed 6-26-03; 8:45 am]

BILLING CODE 6717-01-P